DEPARTMENT OF AGRICULTURE

Forest Service

Notice of New Fee Sites; Federal Lands Recreation Enhancement Act

AGENCY: Coronado National Forest, USDA Forest Service, Tucson, Arizona.

ACTION: Notice of new fee sites.

SUMMARY: The Coronado National Forest is proposing new recreation fees at 13 day use sites at $8 a day or $40 for an annual pass, four campgrounds at $15 a day, and six group camping sites and one group picnic site at $50 a day, plus $10 per vehicle per day. Fees are assessed based on the level of amenities and services provided, cost of operations and maintenance, and market assessment. Fee revenue would be used for the continued operation and maintenance as well as improvements to the facilities within the recreation sites.

DATES: New fees would be implemented no sooner than six months from publication of this notice.

FOR FURTHER INFORMATION CONTACT: Joe Winfield at (520) 388-8422 or by email at CoronadoRecreation@fs.fed.us.

Information about the fee proposal can also be found on the Coronado National Forest website at: http://www.fs.usda.gov/goto/coronado/feereview.

SUPPLEMENTARY INFORMATION: The Federal Lands Recreation Enhancement Act (Title VII, P.L. 108-447) directs the Secretary of Agriculture to publish a six month advance notice in the Federal Register whenever new recreation fee areas are established. Currently, about one-third of Coronado National Forest's developed recreation sites collect fees. This notice is part of a comprehensive fee proposal to restructure developed recreation on the Coronado National Forest. More information can be found at: http://www.fs.usda.gov/goto/coronado/feereview.

The new proposed fee sites are:

Day Use Sites: Bigelow Trailhead, Brown Canyon Ranch and Trailhead, Butterfly Trailhead, Carr Canyon Picnic Area, Gordon Hirabayashi Interpretive Site and trailhead, Herb Martyr Trailhead, Parker Canyon Lake Fishing and Boating Site (and nature trail), Pena Blanca Lake Fishing and Boating Site, Red Rock Picnic Area, Riggs Lake Fishing and Boating Site, Rucker Forest Camp Trailhead, Upper and Lower Thumb Rock Picnic Area, Whipple Picnic Area and Trailhead.

Campgrounds: Herb Martyr, Noon Creek, Stockton Pass, Sycamore.

Group Sites: Columbine Visitor Center Ramada, Gordon Hirabayashi Horse Camp, Stockton Pass, Twilight, Upper Arcadia, Treasure Park.

This new fee proposal will be reviewed by the Bureau of Land Management—Arizona Recreation Resource Advisory Council prior to final decision and implementation.

Dated: August 27, 2018.
Chris French,
Acting Deputy Chief, National Forest System.

[FR Doc. 2018-19965 Filed 9-13-18; 8:45 am]

BILLING CODE 3411-15-P